DEPARTMENT OF COMMERCE

Census Bureau

Agency Information Collection Activities; Submission to the Office of Management and Budget (OMB) for Review and Approval; Comment Request; 2023 New York City Housing and Vacancy Survey (NYCHVS)

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 15, 2021 during a 60-day comment period. This notice allows for an additional 30 days for public comments. To allow for sufficient coverage of units built in the prior two years (since the prior survey year sample was selected), the sample size was increased by 200, from 15,500 to 15,700. Although the sample increased, the respondent burden hours were decreased from 9,907 to 9,867 because not all vacant units will now be reinterviewed, something that was originally included in the respondent burden calculation.

Agency: U.S. Census Bureau, Commerce.

Title: 2023 New York City Housing and Vacancy Survey.

OMB Control Number: 0607-0757.

Form Number(s): N/A—Electronic forms.

Type of Request: Request for a Revision of a Currently Approved Collection.

Number of Respondents: 16,485.

Average Hours per Response: 0.6 (36 minutes).

Burden Hours: 9,891.

Needs and Uses: The Census Bureau will conduct the survey for the City of New York in order to determine the vacancy rate of rental housing stock, which the city uses to enact specific policies. New York City will also use the data to help measure the quality of its housing, and learn specific demographic characteristics about the city's residents.

Affected Public: Households and rental offices/realtors (for vacant units).

Frequency: approximately every three years.

Respondent's Obligation: Voluntary.

Legal Authority: Title 13 U.S.C.—Section 8b, and the Local Emergency Housing Rent Control Act, Laws of New York (Chapters 8603 and 657).

This information collection request may be viewed at www.reginfo.gov. Follow the instructions to view Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0757.

Sheleen Dumas,
Department PRA Clearance Officer, Office of the Chief Information Officer, Commerce Department.

[FR Doc. 2022-12441 Filed 6-8-22; 8:45 am]

BILLING CODE 3510-07-P